DEPARTMENT OF DEFENSE

Office of the Secretary

Submission for OMB Review; Comment Request

Correction

In notice document 02-12502 beginning on page 35505 in the issue of Monday, May 20, 2002, make the following correction:

On page 35506, first column, under the heading DATES, second line, “July 19, 2002” should read “June 19, 2002”.

[FR Doc. C2-12502 Filed 7-2-02; 8:45 am]

BILLING CODE 1505-01-D

DEPARTMENT OF DEFENSE

Office of the Secretary

Submission for OMB Review; Comment Request

Correction

In notice document 02-12503 beginning on page 35506 in the issue of Monday, May 20, 2002, make the following correction:

On page 35506, second column, under the heading DATES, second line, “July 19, 2002” should read “June 19, 2002”.

[FR Doc. C2-12503 Filed 7-2-02; 8:45 am]

BILLING CODE 1505-01-D

DEPARTMENT OF DEFENSE

Office of the Secretary

Submission for OMB Review; Comment Request

Correction

In notice document 02-12504 beginning on page 35506 in the issue of Monday, May 20, 2002, make the following correction:

On page 35506, third column, under the heading DATES, second line, “July 19, 2002” should read “June 19, 2002”.

[FR Doc. C2-12504 Filed 7-2-02; 8:45 am]

BILLING CODE 1505-01-D

DEPARTMENT OF DEFENSE

Office of the Secretary

Submission for OMB Review; Comment Request

Correction

In notice document 02-12505 beginning on page 35507 in the issue of Monday, May 20, 2002, make the following correction:

On page 35507, first column, under the heading DATES, second line, “July 19, 2002” should read “June 19, 2002”.

[FR Doc. C2-12505 Filed 7-2-02; 8:45 am]

BILLING CODE 1505-01-D

DEPARTMENT OF ENERGY

Western Area Power Administration

Western Area Colorado Missouri Control Area Energy Imbalance Service—Rate Order No. WAPA-97

Correction

In notice document 02-14609 beginning on page 39970 in the issue of June 11, 2002, make the following corrections:

On pages 39973 and 39974, Tables 1 and 2 should read as follows:

Examples of Energy Imbalance Service Calculations

Table 1
Within the bandwidth: Credits for over deliveries (based on weighted average real-time sale price) | Within the bandwidth: Charges for under deliveries (based on weighted average real-time purchase price)
Scenario: WACM Aggregate Net Over Delivery | Scenario: WACM Aggregate Net Under Delivery.
Sale #1 25 MW @ $22 ($550) | Purchase #1 100 MW @ $35 ($3,500)
Sale #2 25 MW @ $20 ($500) | Purchase #2 50 MW @$32 ($1,600)
Sale #3 25 MW @ $17 ($425) | Purchase #3 100 MW @ $15 ($1,500)
Sale #4 25 MW @ $12 ($300) | Purchase #4 50 MW @ $10 ($ 500)
Calculation: | Calculation:
($550+$500+$425+$300) = $1,775 | ($3,500+$1,600+$1,500+$500)=$7,100
$1,775 / 100 MW = $17.75/MW | $7,100 / 300 MW = $23.67/MW.
Weighted Average Real-Time Sale Price Price = $17.75/MW | Weighted Average Real-Time Purchase Price = $23.67/MW.
Customer would be credited $17.75/MW | Customer would be charged $23.67/MW.
Pricing Defaults: If no hourly real-time sales, default is to daily real-time sales weighted average on/off-peak. If no daily real-time sales, default is to monthly real-time sales weighted averaged on-/off-peak. If no monthly real-time sales, default is to the prior month real-time sales weighted average on-/off-peak | Pricing Defaults: If no hourly real-time purchase, default is to daily real-time purchase weighted averaged on-/off-peak. If no daily real-time purchase, default is to monthly real-time purchase weighted averaged on-/off-peak. If no monthly real-time purchase, default is to prior month real-time purchase weighted average on-/off-peak.
Applicable transmission cost deducted | Applicable transmission cost added.

Table 2
Outside the bandwidth: Credits for over deliveries (based on weighted average real-time sale price) | Outside the bandwidth: Charges for under deliveries (based on weighted average real-time purchase price)
Scenario: Customer A Over Delivered | Scenario: Customer B Under Delivered.
Sale #1 25 MW @ $22 ($550) | Purchase #1 100 MW @ $35 ($3,500)
Sale #2 25 MW @ $20 ($500) | Purchase #2 50 MW @ $32 ($1,600)
Sale #3 25 MW @ $17 ($425) | Purchase #3 100 MW @ $15 ($1,500)
Sale #4 25 MW @ $12 ($300) | Purchase #4 50 MW @ $10 ($ 500)
Calculation: | Calculation:
($550+$500+$425+$300) = $1,775 | ($3,500+$1,600+$1,500+$500)=$7,100
$1,775 / 100 MW = $17.75/MW | $7,100 / 300 MW = $23.67/MW.
Weighted Average Real-Time Sale Price = $17.75/MW | Weighted Average Real-Time Price = $23.67/MW.
Customer credited 50% = $8.88/MW | Customer charged 150% = $35.50/MW.
Pricing Defaults: Same as shown in Table 1 | Pricing Defaults: Same as shown in Table 1.
Applicable transmission cost deducted | Applicable transmission cost added.

* * * * *

[FR Doc. C2-14609 Filed 7-2-02; 8:45 am]

BILLING CODE 1505-01-D